DEPARTMENT OF HEALTH AND HUMAN SERVICES

Administration for Children and Families

[OMB #0970-0463]

Proposed Information Collection Activity; Comprehensive Child Welfare Information System

AGENCY: Children's Bureau; Administration for Children and Families; HHS.

ACTION: Request for public comment.

SUMMARY: The Administration for Children and Families (ACF) is requesting a revision of the CCWIS information collection authorized by the CCWIS Final Rule (81 FR 35450-35482). The Automated Function List and the Data Quality Plan are revised to be annual submissions of updates with no change to the burden hours per year. Initial submission of the Automated Function List, the Data Quality Plan, and the Notice of Intent have been removed, as we do not expect to receive more than the Paperwork Reduction Act (PRA) threshold in a single year. There are no required instruments associated with this data collection.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The CCWIS information collection includes two components:

• The Automated Function List update required pursuant to § 1355.52(i)(2);

• The Data Quality Plan update required pursuant to § 1355.52(d)(5).

The CCWIS regulations require updates of this information to confirm that the project meets CCWIS requirements and that project costs are appropriately allocated to benefiting programs.

Respondents: Title IV-E agencies under the Social Security Act.

Annual Burden Estimates
Instrument | Number of respondents | Number of responses per respondent | Average burden hours per response | Annual burden hours
Automated Function List § 1355.52(i)(2) | 55 | 1 | 10 | 550
Data Quality Plan § 1355.52(d)(5) | 55 | 1 | 40 | 2,200

Estimated Total Annual Burden Hours: 2,750.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 620 et seq., 42 U.S.C. 670 et seq., 42 U.S.C. 1301 and 1302.

Mary B. Jones,
ACF/OPRE Certifying Officer.

[FR Doc. 2019-09044 Filed 5-2-19; 8:45 am]

BILLING CODE 4184-25-P